FEDERAL COMMUNICATIONS COMMISSION

Notice of Public Information Collection(s) Being Submitted for Review to the Office of Management and Budget

March 13, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 20, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via internet at Allison_E._Zaleski@ omb.eop.gov and to Judith-B. Herman@fcc.gov, Federal Communications Commission, Room 1-B441, 445 12th Street, SW., Washington, DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0895.

Title: Numbering Resource Optimization, CC Docket No. 99-200 (47 CFR 52.15, Central Office Code Administration).

Form No.: N/A.

Type of Review: Revision of a currently approved collection.

Respondents: Business or other for-profit.

Number of Respondents: 2,780 respondents; 7,385 responses.

Estimated Time Per Response: 1-44.4 hours.

Frequency of Response: On occasion and semi-annual reporting requirements and recordkeeping requirement.

Obligation to Respond: Mandatory.

Total Annual Burden: 131,782 hours.

Total Annual Cost: $3,462,800.

Privacy Act Impact Assessment: N/A.

Nature and Extent of Confidentiality: Disaggregated, carrier specific forecast and utilization data will be treated as confidential and will be exempt from public disclosure under 5 U.S.C. 552(b)(4) of the Privacy Act.

Needs and Uses: The Commission will submit this information collection to OMB as a revision during this comment period to obtain the full three-year clearance from them.

The Commission has revised the burden hours and annual cost since this was last submitted to OMB.

For this submission to OMB, the Commission is eliminating a one-time reporting requirement that carriers submit cost support data so that the Commission could determine the cost associated with the thousand-block number pooling. Carriers were required to include an analysis of the differences between the shared industry costs associated with the thousand-block number pooling and the shared industry costs, if any, associated with the current practices that resulted in more frequent area code changes. Because the Commission is revising this collection to eliminate this one-time requirement, we are reporting a −50,108 hourly burden reduction. The Commission is also reporting a −$4,396,200 reduction in annual costs due to an adjustment because industry burden costs have been re-estimated for contract years 2-4 for wages.

The data from this information collection is used by the FCC, state regulatory commissions, and the North American Numbering Plan Administrator (NANPA) to monitor numbering resource utilization by all carriers using the resource and to project the dates of area code and North American Numbering Plan (NANP) exhaust.

Federal Communications Commission.
Marlene H. Dortch,
Secretary.

[FR Doc. E7-5168 Filed 3-20-07; 8:45 am]

BILLING CODE 6712-01-P